DEPARTMENT OF TRANSPORTATION

National Highway Traffic Safety Administration

49 CFR Part 571

[DOT Docket No. NHTSA-2005-22242]

RIN 2127-AJ57

Federal Motor Vehicle Safety Standards; Cargo Carrying Capacity

AGENCY: National Highway Traffic Safety Administration (NHTSA), DOT.

ACTION: Notice of proposed rulemaking (NPRM).

SUMMARY: In this notice of proposed rulemaking (NPRM), we (NHTSA) seek to address the problem of motor home and travel trailer overloading by proposing to amend the Federal motor vehicle safety standard (FMVSS) on tire selection and rims for motor vehicles other than passenger cars. We are also proposing a related amendment to our safety standard for tire selection and rims for light vehicles.

We propose to require manufacturers of motor homes and travel trailers over 4,536 kilograms (10,000 pounds) GVWR to provide information to consumers in a label that is intended to inform the consumer about the vehicle's cargo carrying capacity (CCC). This information would be helpful both at the time the consumer is making a purchase decision and also as the consumer uses his or her vehicle. We also propose to require that the size of tires on the same motor homes and travel trailers be the same as the size of the tires listed on the tire information label required by the standard on tire selection and rims for motor vehicles other than passenger cars.

We are limiting our CCC label to motor homes and travel trailers with a GVWR greater than 4,536 kilograms (10,000 pounds) as these are the vehicles that have large open interior areas that consumers fill with cargo. Recreational vehicles (RV) with GVWRs equal to or less than 4,536 kilograms (10,000 pounds) will be required to have less detailed CCC information as a result of an amendment to the FMVSS on tire selection and rims, which becomes effective September 1, 2005. It should be noted that on June 1, 2007, the FMVSS on tire selection and rims for motor vehicles other than passenger cars will apply to vehicles with a GVWR greater than 4,536 kilograms (10,000 pounds) and the FMVSS on tire selection and rims will apply to vehicles with a GVWR equal to or less than 4,536 kilograms (10,000 pounds).

It is our belief that this proposed rule complements the efforts of the recreational vehicle industry to provide consumers with information in order to help reduce overloading motor homes and travel trailers. This rulemaking responds to a petition from Ms. Justine May.

In addition, this proposed rule would provide regulatory relief for dealers from a labeling requirement in the safety standard on tire selection and rims for light vehicles. The standard's requirement may currently require dealers which add even small amounts of weight to re-label the vehicles. Under the proposed amendment, dealers that add weight in excess of 0.5 percent of the vehicles' gross vehicle weight ratings would be required to disclose this extra weight on labels affixed to the vehicles. Dealers could add lesser amounts of weight without needing to change or add labels.

DATES: You should submit your comments early enough to ensure that Docket Management receives them not later than October 31, 2005.

ADDRESSES: You may submit your comments in writing to: Docket Management, Room PL-401, 400 Seventh Street, SW., Washington, DC, 20590. Alternatively, you may submit your comments electronically by logging onto the Docket Management System Web site at http://dms.dot.gov. Click on “Help & Information” or “Help/Info” to view instructions for filing your comments electronically. Regardless of how you submit your comments, you should mention the docket number of this document.

You may call the Docket at 202-366-9324. You may visit the Docket from 10 a.m. to 5 p.m., Monday through Friday, except for Federal holidays.

FOR FURTHER INFORMATION CONTACT: For non-legal issues, you may call Mr. William D. Evans, Office of Crash Avoidance Standards at (202) 366-2272. His FAX number is (202) 366-7002.

For legal issues, you may call Ms. Dorothy Nakama, Office of the Chief Counsel at (202) 366-2992. Her FAX number is (202) 366-3820.

You may send mail to both of these officials at National Highway Traffic Safety Administration, 400 Seventh St., SW., Washington, DC 20590.

SUPPLEMENTARY INFORMATION:

Table of Contents

I. How Did This Rulemaking Begin?—May Petition

II. What is the Safety Need for the Proposed Rule?—Helping to Prevent Motor Home and Travel Trailer Overloading

A. Background

B. Motor Homes

C. Travel Trailers

D. How Motor Homes and Travel Trailers Can Become Overloaded

III. Previous NHTSA Rulemaking on Cargo Load Information

IV. Cargo Carrying Capacity-Related Consumer Information and Labels Currently Required by NHTSA

A. 49 CFR Part 567, Certification

B. 49 CFR 571.120 (FMVSS No.120) Tire selection and rims for motor vehicles other than passenger cars

C. 49 CFR 571.110 (FMVSS No. 110) Tire selection and rims

D. 49 CFR 575.6 Consumer Information Requirements

E. 49 CFR 575.103, Truck-camper loading

V. Cargo Carrying Capacity Consumer Information and Labels Currently Required by Others

VI. Notice of Proposed Rulemaking

A. Definitions

B. GVWR, GAWR and Tire Load Information for Motor Homes and Travel Trailers

C. Determining Occupant Capacity Weight

D. Location of Labels

E. Proposed Label Format and Content

F. Addition of Weight to FMVSS No. 110 Vehicles and FMVSS No. 120 Motor Homes and Travel Trailers Between Vehicle Certification and First Retail Sale of the Vehicle

1. FMVSS No. 110

2. FMVSS No. 120

VII. Leadtime

VIII. Regulatory Analyses and Notices

A. Executive Order 12866 and DOT Regulatory Policies and Procedures

B. Executive Order 13132 (Federalism)

C. Executive Order 13045 (Economically Significant Rules Affecting Children)

D. Executive Order 12988 (Civil Justice Reform)

E. Regulatory Flexibility Act

F. National Environmental Policy Act

G. Paperwork Reduction Act

H. National Technology Transfer and Advancement Act

I. Unfunded Mandates Reform Act of 1995

J. Plain Language

K. Regulation Identifier Number (RIN)

Proposed Regulatory Text

I. How Did This Rulemaking Begin?—The May Petition

In a petition dated January 21, 2000, Ms. Justine May petitioned NHTSA to amend Federal Motor Vehicle Safety Standard (FMVSS) Number 120, Tire selection and rims for motor vehicles other than passenger cars. Ms. May requested that FMVSS No. 120 be revised in such a way that motor vehicles would be equipped with tires that meet maximum load standards when the vehicle is loaded with a reasonable amount of luggage and the total number of passengers the vehicle is designed to carry. The petition suggested that the language added to FMVSS No. 120 be sufficient to allow for enforcement and for appropriate penalties when non-compliance exists. Ms. May's stated reason for her petition is her family's personal experience with a fifth-wheel travel trailer. She stated that there was no information provided with her trailer stating its cargo carrying capacity (CCC). Ms. May believes that loading her vehicle with cargo for a trip placed it in an overloaded condition, resulting in tire blowouts.

We granted Ms. May's petition for rulemaking.

II. What Is the Safety Need for the Proposed Rule?—Helping To Prevent Motor Home and Travel Trailer Overloading

A. Background—Over the years, the agency has received inquiries and complaints from the public about problems resulting from motor home and travel trailer overloading. Many overloading problems surface in the form of complaints about poor handling, reduced braking capabilities, tire failure and the premature failure of suspension components. NHTSA believes that this proposal will address the problem of overloading, by helping consumers have a better idea of when the cargo carrying capacities of their motor homes and travel trailers are being met, and exceeded.

This proposed rule addresses motor homes and travel trailers. Based on NHTSA staff's discussions with motor home/travel trailer owners, representatives of the recreational vehicle industry and other recreational vehicle groups, the agency has tentatively concluded that many motor home and travel trailer owners are unaware of their vehicle's cargo carrying capacity until a problem becomes apparent. State laws do not require motor homes and travel trailers to use roadside weighing stations as they do for heavy commercial vehicles. NHTSA believes that consumer information in the form of a required label will reinforce existing efforts by the industry to inform consumers of a motor home or travel trailer's cargo carrying capacity.

The Recreation Vehicle Industry Association (RVIA) (http://www.rvia.org) reports that the sales of recreational vehicles (motor homes, travel trailers, fifth wheel trailers, truck campers, and folding camping trailers) totaled approximately 325,000 units in 2003, an increase of approximately 2.5 percent over the previous year. The RVIA cited a 2001 University of Michigan study that shows there are a record 7.2 million recreational vehicles on the roads in the United States and an estimated 30 million recreational vehicle enthusiasts, including renters. Long-term signs indicate substantial recreational vehicle market growth because of favorable demographic trends. As baby boomers enter their prime recreational vehicle buying years over the next decade, the RVIA estimates that the number of recreational vehicle-owning households will rise by 15 percent to nearly 8 million in 2010.

Data published in November 2003 by the Recreation Vehicle Safety Education Foundation (RVSEF)(http://www.rvsafety.org) provides an indication of the size of the overloading problem. Although not a random sample for all recreational vehicles,¹ the following data are somewhat representative of motor home and travel trailer-type recreational vehicles. The following numbers were extracted from the RVSEF 2003 Annual Report to the Industry:

⁷ The RVSEF tends to weigh heavier vehicles.

• 60 percent of 14,606 motor homes weighed since 1993 were overloaded.

• 56 percent of 2,533 fifth wheel travel trailers weighed since 1993 were overloaded.

• 51 percent of 827 non-fifth wheel travel trailers weighed since 1993 were overloaded.

• 54 percent of 2,460 motor homes weighed in 2003 were overloaded.

• 47 percent of 334 fifth wheel travel trailers weighed in 2003 were overloaded.

• 47 percent of 108 non-fifth wheel travel trailers weighed in 2003 were overloaded.

The data presented above appear to show that the problem of overloading has persisted over a ten-year period. As earlier indicated, overloaded recreational vehicles can cause tire failures and blowouts, which can lead to loss of control, extensive vehicle damage, injuries, and fatalities.

To help address this problem, in this NPRM, NHTSA proposes a consumer-information safety label that would adopt the recommended practices of an industry-sponsored organization, the Recreation Vehicle Industry Association (RVIA).

Since this rulemaking addresses motor homes and travel trailers, the following describes characteristics of these vehicles, and explains how they may become overloaded.

B. Motor Homes—Motor homes are usually manufactured in two or more stages, with the final stage manufacturer using a pass-through certification of the chassis manufacturer by staying within the guidelines of the incomplete vehicle document specified by the chassis manufacturer. In some cases, a final stage manufacturer may complete a vehicle so that its unloaded vehicle weight (UVW) plus occupant capacity weight (OCW) is just under the GVWR certified by the chassis manufacturer. The GVWR is the value specified by the manufacturer as the maximum loaded weight of the vehicle.

NHTSA's present certification label requirement (49 CFR 567.4) specifies that the GVWR include the “rated cargo load,” but it does not provide criteria for determining the rated cargo load or specify a minimum required cargo load. The rated cargo load may be very low or even zero. Motor homes have large, open interior spaces that owners may erroneously believe can safely be used for large amounts of cargo. If the rated cargo load is low, when a consumer loads even a small amount of cargo such as clothing, food, water and small appliances, the vehicle may become overloaded. We believe that better consumer information can help avoid this situation.

C. Travel Trailers—Travel trailers are built on trailer chassis that can have one axle or multiple axles. The GVWR of the trailer chassis, the size of body that is built onto it and the number of options put into the trailer determine how much rated cargo load remains. Without information from the manufacturer, the consumer cannot determine a particular model's rated cargo load. Like motor homes, travel trailers also have large, open interior spaces that consumers may believe can safely be used to carry large amounts of cargo. The lack of consumer information indicating the travel trailer's rated cargo load can lead to overloading situations.

D. How Motor Homes and Travel Trailers Can Become Overloaded—There are several ways in which vehicles such as motor homes and travel trailers can become overloaded. A vehicle becomes overloaded when any of its tire load ratings, GAWRs or GVWRs are exceeded. Overloading places stress on the vehicle's chassis, suspension components, axles, tires, brakes, and other vehicle systems.

In certain cases, non-uniform side-to-side and/or non-uniform forward/aft overloading occurs. In some cases, overloading may occur when a final stage manufacturer installs furniture, appliances, room extensions, and other fixtures or accessories in a non-symmetrical fashion and/or when consumers place cargo in a non-uniform fashion. Although the GVWR may not be exceeded, individual tires or axles may become overloaded as a result of non-uniform loading.

At present, NHTSA does not regulate the load applied to individual tires on any vehicle. FMVSS No. 120, which at present applies to all vehicles except passenger cars,² states that the sum of the maximum load ratings of the tires fitted to an axle shall not be less than the GAWR. If the load is non-uniform, an individual tire can be overloaded without exceeding the GAWR, and FMVSS No. 120 requirements would still be met. Overloaded, unbalanced vehicles, especially large vehicles such as motor homes and travel trailers, are difficult to maneuver and may require longer stopping distances. When a vehicle is unbalanced and overloaded, the chances of a crash caused by poor handling or component failure increase. Components subject to failure include springs, shock absorbers, brakes, frame components, steering components, axles, rims and tires.

² On June 1, 2007, FMVSS No. 120 will apply only to vehicles with GVWRs greater than 4,536 kilograms (10,000 pounds).

The consumer information label we are proposing would also advise recreational vehicle owners to distribute cargo appropriately in order to prevent non-uniform loading.

III. Previous NHTSA Rulemaking on Cargo Load Information

On April 16, 1991, NHTSA published an NPRM (56 FR 15315) to require the disclosure of information about a vehicle's rated cargo load. The NPRM responded to a petition filed by Mr. Stephen Durkovich on May 22, 1990. NHTSA proposed amending the labeling requirements in FMVSS No. 120, concerning tire selection and rims for vehicles other than passenger cars, to require information about the vehicle capacity weight and designated seating capacity. The agency further proposed to modify the definition of vehicle capacity weight to clarify that the rated cargo load includes luggage.

All the public comments in response to the NPRM opposed the proposal to require labeling of vehicle capacity weight and designated seating capacity. Additionally, commenters stated that there was a lack of statistical data and demonstrated safety need, and that providing information about vehicle capacity weight and designated seating capacity would not be useful to consumers.

In the Federal Register of March 4, 1992 (57 FR 7712), NHTSA terminated the rulemaking.

IV. Cargo Carrying Capacity-Related Consumer Information and Labels Currently Required by NHTSA

The following FMVSSs and other NHTSA regulations currently require vehicle manufacturers to provide information to the public on labels or tags affixed to vehicles.

A. 49 CFR Part 567, Certification—Part 567 requires motor vehicle manufacturers to affix to each vehicle, a certification label containing the following information: the manufacturer's name; the month and year of manufacture; the Gross Vehicle Weight Rating (GVWR) (which cannot be less than the sum of the unloaded vehicle weight, rated cargo load, and 68 kg (150 lb) times the number of designated seating positions in the vehicle); the Gross Axle Weight Rating (GAWR) for each axle (the value specified by the vehicle manufacturer as the load carrying capacity of a single axle system, as measured at the tire/ground interface); a statement that the vehicle conforms to applicable Federal motor vehicle safety standards; the vehicle identification number; and the vehicle type classification.

B. 49 CFR 571.120 (FMVSS No. 120), Tire selection and rims for motor vehicles other than passenger cars—FMVSS No. 120 requires manufacturers of applicable vehicles to include certain information on either the Part 567 vehicle certification label or on a separate tire information label on the vehicle. The required information includes the GVWR, GAWR, the appropriate tire and rim combination and the recommended cold inflation pressure.

The information is intended to provide the consumer with a recommended tire size, rim size and cold inflation tire pressure appropriate for the vehicle certified GAWRs. FMVSS No. 120 also requires that the sum of the maximum load ratings of the tires fitted to an axle shall not be less than the GAWR of the axle system. However, it presently does not require that when delivered to the customer, the size of the tires on the vehicle be the same as the tire size on the tire information label. On June 1, 2007, an amendment to FMVSS No. 120 will take effect, which will change its applicability from “tire selection and rims for motor vehicles other than passenger cars” to “tire selection and rims for motor vehicles with a GVWR of more than 4,536 kilograms (10,000 pounds).” It is anticipated that, if made final, this proposed rule will take effect on or after June 1, 2007, and therefore, the labeling in this proposed rule will apply to motor homes and travel trailers with GVWRs greater than 4,536 kilograms (10,000 pounds).

C. 49 CFR 571.110 (FMVSS No. 110), Tire selection and rims, requires passenger cars to have a label affixed to the glove compartment door or an equally accessible location that contains the following information: vehicle capacity weight; designated seating capacity; vehicle manufacturer's recommended cold tire inflation pressure; and vehicle manufacturer's recommended tire size designation. FMVSS No. 110 also requires that the maximum load on each tire at vehicle GVWR shall not be greater than the applicable maximum load rating as marked on the sidewall of the tire.

On September 1, 2005, an amendment will take effect that will require a placard to be affixed to the vehicle's driver side B-pillar (on the edge of the driver's door if no B-pillar exists) that adds the following information: the vehicle capacity weight expressed as “The combined weight of occupants and cargo should never exceed XXX kilograms or XXX pounds.” S4.3.5 Requirements for trailers, states that each trailer must on its placard contain a cargo capacity statement expressed as “The weight of cargo should never exceed XXX kilograms or XXX pounds” in the same location on the placard specified for the “vehicle capacity weight” statement required by this standard.

On June 1, 2007, FMVSS No. 110 will apply to all motor vehicles with a GVWR of 4,536 kilograms (10,000 pounds) or less, except motorcycles.

D. 49 CFR 575.6 Consumer Information Requirements—49 CFR 575.6 requires manufacturers to provide consumers with written information on tire labeling, tire care, vehicle load limits and explanations of the information provided. Manufacturers must also provide a discussion and sample calculation for determining the cargo and luggage load capacity.

E. 49 CFR 575.103, Truck-camper loading requires manufacturers of slide-in campers to affix to each camper, a label that contains information relating to the identification and proper loading of the camper, and to provide more detailed loading information in the owner's manual. The label must state the maximum weight of the slide-in camper, which must include the weight of water, bottled gas, and the refrigerator or ice box. In addition, it requires truck manufacturers that would accommodate slide-in campers to specify the cargo weight ratings and the longitudinal limits within the center of gravity for where the cargo weight should be located.

V. Cargo Carrying Capacity Consumer Information and Labels Currently Required or Recommended by Others

A. Transport Canada—Transport Canada amended its motor vehicle safety regulations on April 1, 1999 by requiring manufacturers to provide additional information on their certification labels or on a separate label. The amendment addresses the inadvertent overloading of altered vehicles, recreational vehicles, and those vehicles built in stages (including multipurpose passenger vehicles, buses, and trailers) by different manufacturers. The amendment requires:

• Alterers and intermediate/final stage manufacturers to respect the gross axle weight ratings and gross vehicle weight ratings determined by the original manufacturer.

• Manufacturers of multipurpose passenger vehicles or buses manufactured from cutaway chassis, motor homes and recreational trailers, to state the cargo-carrying capacity and designated seating capacity as required on the compliance label or on a separate label placed beside the compliance label.

• Information on motor homes and recreational trailers, which specifies the mass of the fresh water, hot water and waste tank, when full, and which states that the cargo-carrying capacity of the vehicle was determined when fresh-water and hot water tanks were full and the waste water tanks empty.

• The number of seat belts installed to be no less than the number of sleeping positions.

B. Recreation Vehicle Industry Association (RVIA)—RVIA has established provisions for labels that provide motor home and recreational trailer weight information. To qualify as members in good standing, manufacturers must post the label information on their vehicles. According to the RVIA, over 95 percent of recreational vehicle manufacturers are RVIA members and comply with their labeling requirements. RVIA visits their members several times per year to verify that the RVIA labels are placed on recreational vehicles. The following information is required on the RVIA label for motor homes and recreational vehicle trailers:

• Vehicle Identification Number (VIN) or serial number.

• Definitions of Gross Vehicle Weight Rating (GVWR), Unloaded Vehicle Weight (UVW), Sleeping Capacity Weight Rating (SCWR) [for motor homes only] and Cargo Carrying Capacity (CCC).

• The weights in pounds (and kilograms) for GVWR, UVW, fresh water, propane, SCWR [for motor homes only] and CCC.

• An advisory that dealer installed equipment will reduce the CCC. [Motor homes must include “and towed vehicle tongue weight” after “equipment.”]

• An advisory to consult the owner's manual for specific weighing instructions and towing guidelines.

VI. Notice of Proposed Rulemaking

A. Definitions—This proposed rule would apply to motor homes and travel trailers. A definition of “motor home” is already included in 49 CFR 571.3. In this NPRM, we propose to revise the definition of “motor home” (to refer to “propane” rather than “LP gas supply”) and to propose to define “travel trailer” as follows:

Motor home means a multi-purpose vehicle with motive power that is designed to provide temporary residential accommodations, as evidenced by the presence of at least four of the following facilities: cooking; refrigeration or ice box; self-contained toilet; heating and/or air conditioning; a potable water supply system including a faucet and a sink; and a separate 110-125 volt electrical power supply and/or propane.

Travel trailer means a trailer designed to be drawn by a vehicle with motive power by means of a bumper or frame hitch or a special hitch in a truck bed and is designed to provide temporary residential accommodations, as evidenced by the presence of at least four of the following facilities: cooking; refrigeration or ice box; self-contained toilet; heating and/or air conditioning; a potable water supply system including a faucet and a sink; and a separate 110-125 volt electrical power supply and/or propane.

If it should be made final, the definition of “travel trailer” will be placed in 49 CFR 571.3.

B. GVWR, GAWR and Tire Load Information for Motor Homes and Travel Trailers—In this NPRM, we propose to amend FMVSS No. 120 to require that the sum of the GAWRs of all the axles on a motor home and that the sum of the GAWRs of all the axles on a travel trailer plus the tongue load rating, must not be less than the GVWR of each respective vehicle. We note that the proposed requirement would not prevent individual tires on motor homes and travel trailers from being overloaded.

NHTSA is concerned about the issue of individual tire overloading, as some of the complaints we receive concern tire safety issues such as premature tire failure and blowouts. In FMVSS No. 110, the vehicle maximum load on an individual tire is determined by distributing to each axle its share of the maximum loaded vehicle weight and dividing by two. This vehicle maximum load on the tire shall not be greater than the maximum load rating marked on the sidewall of the tire. In FMVSS No. 120, the sum of the maximum load ratings of the tires fitted to an axle shall not be less than the GAWR. (Neither standard requires that the actual load on an individual tire not exceed the installed tire load rating.) While we are not proposing to address individual tire loading in this NPRM, we are seeking data on the magnitude of the safety problem. In some cases, new vehicles can have an overloaded axle or tire caused by unbalanced loading, without passengers or cargo. In some cases, individual axles or tires may not be overloaded; in this situation, however, when passengers and cargo are loaded, a tire or axle may become overloaded.

NHTSA plans to monitor complaint and crash data resulting from reported overloading of individual tires and axles on motor homes and travel trailers. The agency requests input from manufacturers and other commenters regarding the issue of regulating tire and axle loads on motor homes and travel trailers.

In this proposed rulemaking, NHTSA proposes to require that the size of the tires that are on motor homes and travel trailers at the time of first retail sale be the same size as the tires on the tire label required by FMVSS No. 120. Since inflation tire pressure is critical to tire loading, the tire label provides the recommended tire size and cold inflation pressure for the vehicle. If a different tire is placed on the vehicle, it may require a different tire inflation pressure. Consumers generally refer to the tire label for inflation pressures. If the size of the tire on the label and the size of the tire on the vehicle are not the same, the consumer may inflate the vehicle's tires to the wrong pressure. In some cases, inflating vehicle tires to the wrong pressure can intensify the effects of overloading.

The proposed rule would also require manufacturers to disclose CCC of motor homes and travel trailers. It is anticipated that consumers will use this information both to purchase vehicles with CCCs that will meet their needs and as guidance for how they may subsequently load their vehicles in a safe manner. This proposed rule would not specify a minimum required CCC for any motor home or travel trailer.

C. Determining Occupant Capacity Weight—In order to determine the CCC of a motor home, the occupant capacity weight (OCW) must be determined. The OCW is then grouped with the other weight factors (such as weight of full fresh water, propane and the unloaded vehicle weight) that must be subtracted from the vehicle's GVWR in order to determine the portion of the GVWR available for carrying cargo.

The RVIA uses sleeping capacity weight rating (SCWR) on its label to account for OCW. SCWR is the number of sleeping positions times 68 kilograms (150 pounds). The premise is that the motor home will usually not be carrying more passengers than there are places for the passengers to sleep. However, the number of safety belt equipped positions, which are seating positions equipped with type 1 or type 2 safety belts, can be greater than the number of sleeping positions used in the CCC calculation. If these seating positions are all occupied, there may be an overload condition, as there then may be occupants in the vehicle not included in the CCC calculation.

Another method of determining OCW would be to simply use the total number of safety belt-equipped seating positions. However, simply requiring that the total number of safety belt-equipped seating positions be used when calculating CCC may encourage manufacturers to reduce the number of safety belt-equipped seating positions. Fewer safety belt-equipped seating positions means that a motor home or travel trailer may have greater CCC.

In this NPRM, NHTSA proposes that the greater of the total number of safety belt-equipped seating positions or the total number of sleeping positions be multiplied by 68 kilograms (150 pounds) to determine the OCW.

D. Location of Labels—The RVIA requires that labels be affixed to the vehicle in a conspicuous location. Motor home labels are sometimes found in the driver's compartment and trailer labels are sometimes found on the inside of kitchen cabinet doors. Nonuniform label locations may cause consumers to miss the label when shopping for a vehicle. Also, the label should be in a location where consumers can repeatedly see it, so the label serves as a reminder of CCC and overloading issues. In order to promote a consistent label location, which may increase the number of times consumers see the label and thus, increase label effectiveness, in this NPRM, we propose that the label be affixed to the interior of the forwardmost exterior passenger door on the right side of the vehicle. Such a door is used repeatedly when entering, exiting, and loading the vehicle. In addition, such a door will have the surface area to accommodate the size of the required label.

E. Proposed Label Format and Content—NHTSA seeks to provide purchasers of motor homes and travel trailers with information of the vehicles' CCC. NHTSA believes the labels should also provide consumers with a detailed explanation of how the CCC is calculated, thus enabling each consumer to adjust the values according to their particular applications. For example, if there are only two occupants riding in a motor home designed for six occupants, there would be more capacity for cargo. NHTSA's proposed label is similar to the RVIA label that is currently used by many companies on a voluntary basis.

NHTSA also believes the proposed label formats have information consumers can use while comparison shopping for motor homes or travel trailers. The labels would also serve as a reference to recreational vehicle owners when the owners are loading cargo.

The proposed label for travel trailers would include the trailer tongue load rating and the statement: “The weight of cargo should never exceed XXX kilograms (XXX pounds)” in black lettering on yellow background. The travel trailer manufacturer would be responsible for determining the trailer tongue load rating and the cargo carrying capacity of its travel trailer, and for providing this information on its travel trailer label.

The proposed label for motor homes would include the statement: “The combined weight of occupants and cargo should never exceed XXX kilograms (XXX pounds)” in black lettering on yellow background. This statement is the same as will be required for vehicles with GVWRs of 4,536 kilograms (10,000 pounds) or less under the required FMVSS No. 110 vehicle placard, which becomes effective on September 1, 2005. The proposed motor home label would use the greater of the total number of safety belt-equipped seating positions or sleeping positions times 68 kilograms (150 pounds) to determine OCW. The motor home manufacturer would be responsible for determining the cargo carrying capacity of its motor home, and for providing this information on its motor home label.

All information on each of the proposed motor home and travel trailer labels would be required to be a minimum print size of 2.4 millimeters (3/32 inches) high and be printed on a contrasting background. The weights on the label would be required to be displayed to the nearest kilogram (with conversion to the nearest pound in parentheses) and must reflect the particular weight specifications of the motor home or travel trailer to which it is affixed as the vehicle leaves the factory. Both labels will advise the purchaser that the weight of any dealer-installed equipment must be subtracted from the manufacturer's value of CCC and will advise consumers to load cargo appropriately to prevent non-uniform side-to-side and forward-aft loading. In the case of motor homes, the label will contain the weight of the maximum hitch load and the purchaser will be advised that the tongue weight of trailers or vehicles being towed also subtracts from the manufacturer's value of CCC. If the motor home is not delivered with a hitch, this block will be left blank.

While the proposed label will not refer to the owner's manual, the standard would not prohibit manufacturers from adding references on the label that refer to specific information that is included in the owner's manual. NHTSA believes that the labels will be helpful to consumers in making purchasing decisions and can also be used by recreational vehicle owners to calculate the amount of cargo that can be carried in situations where there may be a reduced number of passengers and/or reduced quantities of water or propane.

F. Addition of Weight to FMVSS No. 110 Vehicles and to FMVSS No. 120 Motor Homes and Travel Trailers Between Vehicle Certification and First Retail Sale of the Vehicle.

1. FMVSS No. 110—September 1, 2005 is the effective date of an amendment to FMVSS 110, Tire selection and rims, which will require manufacturers to affix a tire placard to the vehicle's driver-side B-pillar or to the edge of the driver's door (if no B-pillar exists) which adds the statement: “The combined weight of occupants and cargo should never exceed XXX kg or XXX lbs.” to the information previously required on the existing tire placard. Vehicle manufacturers will be required to disclose the amount of weight carrying capacity that is available on the vehicle for passengers and cargo. The vehicle manufacturer installs this label when the vehicle is certified.

Recently, manufacturers and dealers have inquired as to what must be done when optional equipment and accessories are added to a vehicle before first retail sale, which increases the vehicle's weight and decreases the weight allotted for passengers and cargo. NHTSA's response to such inquiries has been that the label must be replaced as necessary so that the vehicle has a label with accurate information. NHTSA believes, however, that small increases in weight are insignificant. Moreover, requiring dealers to reprint labels with new information each time a small amount of weight is added to a vehicle is unnecessarily burdensome.

To address the issues, in this NPRM, NHTSA proposes that for FMVSS No. 110 vehicles, if weight equal to or less than 0.5 percent of gross vehicle weight rating (GVWR) is added by the dealer before first retail sale, no additional action is required. If weight greater than 0.5 percent of GVWR is added by the dealer before first retail sale, the dealer must add the following label to the vehicle within 25 millimeters (1 inch) of the FMVSS No. 110 tire placard, which discloses the total weight of added items to the nearest kilogram (pound). The characters of this label must have a minimum print size of 2.4 millimeters (3/32 inches) high and be black printed on a yellow background. The label must be visible when the FMVSS No. 110 tire placard is read:

“Caution—Cargo Carrying Capacity Reduced” Modifications to this vehicle have reduced the original cargo carrying capacity ___ by kilograms (___ pounds)

This label may be printed as shown above and the value for total added weight is provided by the dealer when it installs optional accessories and equipment in excess of 0.5 percent of the vehicle's GVWR. To fill out the additional label, dealers need to know only the total weight effect of added items. Dealers can provide the information without weighing vehicles. The following is the proposed regulatory text at S4.3(a) of FMVSS No. 110.

(a) Vehicle capacity weight:

(1) If weight greater than 0.5 percent GVWR is added to a vehicle between vehicle certification and first retail sale, of the vehicle, the following label meeting the following criteria shall be affixed to the vehicle within 25 millimeters (1 inch) of the tire placard such that it is visible when the tire placard is read.

“Caution—Cargo Carrying Capacity Reduced” Modifications to this vehicle have reduced the original cargo carrying capacity ___ by kilograms (___ pounds)

(2) The label must disclose to the nearest kilogram (pound), the total weight added.

(3) The characters of the label must be presented in the English language, have a minimum print size of 2.4 millimeters (3/32 inches) high, and be black printed on a yellow background. The label must be moisture resistant and permanently affixed to the vehicle.

2. FMVSS No. 120—NHTSA believes the proposed changes to FMVSS No. 110 concerning additional dealer-added weight are also appropriate for FMVSS No. 120. As previously discussed, the proposed language for FMVSS 120 requires an RVIA type label, which includes a statement similar to the cargo carrying capacity statement that appears on the FMVSS No. 110 label. The proposed FMVSS No. 120 motor home label would state: “The combined weight of occupants and cargo should never exceed XXX kilograms (XXX pounds).” The proposed FMVSS No. 120 travel trailer label would state: “The weight of cargo should never exceed XXX kilograms (XXX pounds).” For motor homes and travel trailers, cargo carrying capacity will be determined by the final stage vehicle manufacturer and will be printed on the FMVSS No. 120 cargo carrying capacity label for motor homes and travel trailers. If the weight of optional accessory items and equipment installed by dealers is not disclosed, the cargo carrying capacity value on the manufacturer's label may be incorrect.

Therefore, in this NPRM, NHTSA proposes that the same method proposed for FMVSS No. 110 vehicles above also be used for motor homes and travel trailers in FMVSS No. 120. If weight equal to or less than 0.5 percent of GVWR is added by the dealer to a FMVSS No. 120 motor home or travel trailer between certification and first retail sale, no additional action is required. If weight greater than 0.5 percent of GVWR is added by the dealer to a FMVSS No. 120 motor home or travel trailer between certification and first retail sale, the dealer must add the following label within 25 millimeters (1 inch) of the FMVSS No. 120 motor home or travel trailer cargo carrying capacity label which discloses the total weight of added items to the nearest kilogram (pound). The characters of this label must have a minimum print size of 2.4 millimeters (3/32 inches) high and be black printed on a yellow background. The label must also be visible when the FMVSS No. 120 motor home or travel trailer cargo carrying capacity label is read.

“Caution—Cargo Carrying Capacity Reduced” Modifications to this vehicle have reduced the original cargo carrying capacity by ___ kilograms (___ pounds)

This label may be printed as shown above and the value of total weight added may be written on the label by the dealer when optional accessories and equipment are installed. To fill out the additional label, dealers need only know the total weight effect of added items. Dealers can provide the information without weighing vehicles. The following regulatory text for FMVSS No. 120 on dealer-added weight between certification and first retail sale is proposed:

S10.4.5 Weight added to motor homes and travel trailers between vehicle certification and first vehicle sale.

(a) If weight greater than 0.5 percent of GVWR is added to a motor home or travel trailer between vehicle certification and first retail sale, a label as shown in Figure 3 and meeting the following criteria shall be affixed to the vehicle within 25 millimeters of the cargo carrying capacity label required by S10.3.3 or S10.3.4 such that it is visible when reading the cargo carrying capacity label.

(1) The label must disclose the total weight added to the nearest kilogram (pound).

(2) The characters of the label must be presented in the English language, have a minimum print size of 2.4 millimeters (3/32 inches) high, be black printed on a yellow background and the label must be moisture resistant and permanently affixed to the vehicle.

VII. Leadtime

We propose to make the amendments effective 180 days (approximately six months) after the final rule is published but, as discussed above, not before June 1, 2007. We note that the proposed labeling requirements would not require manufacturers to collect or provide any information other than that already voluntarily provided by motor home and travel trailer manufacturers that are members of the Recreational Vehicle Industry Association. Public comment is sought whether 180 days would be enough lead time for industry to comply with the NHTSA's new requirements.

In addition, the provisions in the proposed rule to amend FMVSS No. 110 are intended to provide regulatory relief to dealers that may add weight less than 0.5 percent of gross vehicle weight rating after certification of vehicles and before first retail sale of the vehicles. Thus, we propose, for the FMVSS No. 110 provisions, if made final, that dealers be given the option of immediate compliance.

VIII. Regulatory Analyses and Notices

A. Executive Order 12866 and DOT Regulatory Policies and Procedures

Executive Order 12866, “Regulatory Planning and Review” (58 FR 51735, October 4, 1993), provides for making determinations whether a regulatory action is “significant” and therefore subject to Office of Management and Budget (OMB) review and to the requirements of the Executive Order. The Order defines a “significant regulatory action” as one that is likely to result in a rule that may:

(1) Have an annual effect on the economy of $100 million or more or adversely affect in a material way the economy, a sector of the economy, productivity, competition, jobs, the environment, public health or safety, or State, local, or Tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

We have considered the impact of this rulemaking action under Executive Order 12866 and the Department of Transportation's regulatory policies and procedures. This rulemaking document was not reviewed by the Office of Management and Budget under E.O. 12866, “Regulatory Planning and Review.” The rulemaking action is also not considered to be significant under the Department's Regulatory Policies and Procedures (44 FR 11034; February 26, 1979).

For the following reasons, we believe that this proposal, if made final, would not have any quantifiable cost effect on manufacturers of motor homes or travel trailers. If made final, this rule would have no substantive effect on 95 percent of motor homes and travel trailers that are already manufactured for the U.S. market. As discussed earlier, the labeling requirements in this proposed rule parallels the labels already required by the Recreational Vehicle Industry Association (RVIA) for RIVA members. Approximately 95 percent of affected motor home and travel trailer manufacturers are RVIA members. Thus, if made final, the proposed rule would in effect impose new requirements on only approximately 5 percent of recreational vehicle manufacturers.

In addition, this proposed rule would provide regulatory relief for dealers from an existing labeling requirement in the safety standard on tire selection and rims. Dealers that add items to covered vehicles in excess of 0.5 percent of the vehicles' gross vehicle weight ratings would be required to disclose this extra weight on labels affixed to the vehicles. No labels would be required for the addition of lesser weight.

Because the economic impacts of this proposal are so minimal, no separate regulatory evaluation is necessary.

B. Executive Order 13132 (Federalism)

Executive Order 13132 requires us to develop an accountable process to ensure “meaningful and timely input by State and local officials in the development of regulatory policies that have federalism implications.” “Policies that have federalism implications” is defined in the Executive Order to include regulations that have “substantial direct effects on the States, on the relationship between the National Government and the States, or on the distribution of power and responsibilities among the various levels of government.” Under Executive Order 13132, we may not issue a regulation with federalism implications, that imposes substantial direct compliance costs, and that is not required by statute, unless the Federal Government provides the funds necessary to pay the direct compliance costs incurred by State and local governments, or unless we consult with State and local governments, or unless we consult with State and local officials early in the process of developing the proposed regulation. We also may not issue a regulation with federalism implications and that preempts State law unless we consult with State and local officials early in the process of developing the proposed regulation.

This proposed rule would not have substantial direct effects on the States, on the relationship between the National Government and the States, or on the distribution of power and responsibilities among the various levels of government, as specified in Executive Order 13132. The reason is that this proposed rule, if made final, would apply to motor home manufacturers and to travel trailer manufacturers, not to the States or local governments. Thus, the requirements of Section 6 of the Executive Order do not apply to this proposed rule.

C. Executive Order 13045 (Economically Significant Rules Affecting Children)

Executive Order 13045 (62 FR 19885, April 23, 1997) applies to any rule that: (1) Is determined to be “economically significant” as defined under E.O. 12866, and (2) concerns an environmental, health or safety risk that NHTSA has reason to believe may have a disproportionate effect on children. If the regulatory action meets both criteria, we must evaluate the environmental health or safety effects of the planned rule on children, and explain why the planned regulation is preferable to other potentially effective and reasonably feasible alternatives considered by us.

This proposed rule is not subject to the Executive Order because it is not economically significant as defined in E.O. 12866 and does not involve decisions based on environmental, health or safety risks that disproportionately affect children. This proposed rule, if made final, would make changes affecting only motor home manufacturers and travel trailer manufacturers.

D. Executive Order 12988 (Civil Justice Reform)

Pursuant to Executive Order 12988, “Civil Justice Reform,” we have considered whether this proposed rule would have any retroactive effect or any preemptive effect. We conclude that it would have no retroactive effect.

Under 49 U.S.C. 30103, whenever a Federal motor vehicle safety standard is in effect, a State may not adopt or maintain a safety standard applicable to the same aspect of performance which is not identical to the Federal standard, except to the extent that the state requirement imposes a higher level of performance and applies only to vehicles procured for the State's use. 49 U.S.C. 30161 sets forth a procedure for judicial review of final rules establishing, amending or revoking Federal motor vehicle safety standards. That section does not require submission of a petition for reconsideration or other administrative proceedings before parties may file suit in court.

For this proposed rule, we propose a definition of “travel trailer.”

E. Regulatory Flexibility Act

Pursuant to the Regulatory Flexibility Act (5 U.S.C. 601 et seq., as amended by the Small Business Regulatory Enforcement Fairness Act (SBREFA) of 1996) whenever an agency is required to publish a notice of rulemaking for any proposed or final rule, it must prepare and make available for public comment a regulatory flexibility analysis that describes the effect of the rule on small entities (i.e., small businesses, small organizations, and small governmental jurisdictions). However, no regulatory flexibility analysis is required if the head of an agency certifies the rule would not have a significant economic impact on a substantial number of small entities. SBREFA amended the Regulatory Flexibility Act to require Federal agencies to provide a statement of the factual basis for certifying that a rule would not have a significant economic impact on a substantial number of small entities.

The Administrator considered the effects of this rulemaking action under the Regulatory Flexibility Act (5 U.S.C. 601 et seq.) and certifies that this proposal would not have a significant economic impact on a substantial number of small entities. The factual basis for this certification is that this proposal, if made final, would minimally affect small U.S. motor home manufacturers or small U.S. travel trailer manufacturers. The U.S. Small Business Administration's regulations at 13 CFR 121.201 defines a small “motor home manufacturer” (NAICS Code 336213) as a “business entity organized for profit, with a place of business located in the United States, and which operates primarily within the United States or which makes a significant contribution to the U.S. economy through payment of taxes or use of American products, materials or labor.” (See 13 CFR 121.105) that employs fewer than 1,000 employees. Travel trailer and camper manufacturers (NAICS Code 336214) on the other hand, have a size standard of fewer than 500 employees.

NHTSA believes that most RVIA members are small businesses. As earlier discussed, 95 percent of RVIA members are already providing to their customers, labeling information that parallel the information specified in this NPRM. Thus, if made final, this proposed rule would impose new labeling information requirements on only 5 percent of small businesses that manufacture motor homes or travel trailers.

F. National Environmental Policy Act

We have analyzed this proposal for the purposes of the National Environmental Policy Act and determined that it would not have any significant impact on the quality of the human environment.

G. Paperwork Reduction Act

Under the Paperwork Reduction Act of 1995, a person is not required to respond to a collection of information by a Federal agency unless the collection displays a valid Office of Management and Budget (OMB) control number. This proposal introduces new information collection requirements in that the new regulation would require certain disclosures to third parties. Our estimates of the burden that this rulemaking imparts on motor home and travel trailer manufacturers are given below. There is no burden to the general public. These estimates are based on the fact that approximately 95% of motor home and travel trailer manufacturers currently belong to RVIA and apply the RVIA label to the vehicles they produce. The physical make-up of the RVIA label, as well as the information it provides are similar to the label required by this proposed regulation. Therefore, the cost and hour burden for making/purchasing and applying the RVIA label is essentially the same as the cost and hour burden for the label proposed in this rulemaking. When this rulemaking becomes a final rule, all manufacturers will be using the label specified by this NHTSA regulation. We expect that the NHTSA label will replace a current label of the same cost for most RVs. This rule does not prohibit manufacturers from adding any information, such as references to the owner's manual, that appear on present labels to the NHTSA label. Therefore, we do not believe the rule will cause the need for an additional label on those vehicles.

Because 95% of manufacturers are currently using a similar label (the RVIA label), which has a similar cost and hour burden, the only additional burden imparted by this rulemaking would be the cost of the remaining 5% of manufacturers to comply. The following are the hour burden and cost estimates, which will result when the remaining 5% of motor home and travel trailer manufacturers had to comply with labeling requirements.

This proposal also introduces an additional label to be applied by dealers in cases where weight totaling more than 0.5 percent of the vehicle's GVWR is added between vehicle certification by the manufacturer and first retail sale. Such added weight is usually in the form of equipment or accessories added by the dealer at the request of the purchaser. If weight in excess of 0.5 percent of GVWR is added the dealer would write on the label the total weight of added items and apply the label next to the cargo carrying capacity label. This being a new label would apply to 100 percent of the RVs to which this proposed rulemaking applies. The estimated cost of labels are based on costs obtained from a leading label manufacturer.

The following information and hardware are already available to manufacturers and therefore would not impose additional cost or burden.

○ VIN or serial number

○ Definitions of GVWR, UVW, OCW, CCC

○ Value of GVWR

○ Value of UVW

○ Value of the maximum quantity of fresh water and its weight

○ Value of the maximum quantity of propane and its weight

○ Value of OCW

○ Value of CCC

○ Advisory statements at the bottom of the label

○ Scale system for weighing vehicles as practically all manufacturers own or have access to a scale system in order to monitor the load of the body verses the GVWR of the chassis. Scale systems usually cost between $10,000 and $15,000.

Estimated annual burden to motor home and travel trailer manufacturers to determine the Unloaded Vehicle Weight (UVW).

Motor Homes

○ Estimated labor hours to weigh a motor home = .10 hours

○ Approximately 61,527 motor homes shipped in 2003

○ It is estimated that 95% currently use the RVIA label and weigh their motor homes which leaves 5% or 3076 additional motor homes per year to be weighed as a result of this rulemaking

○ 3076 additional motor homes/year × .10 hours/motor home = 308 hours/year

Travel Trailers

○ Estimated hours to weigh a travel trailer = .16 hours

○ Approximately 264,109 travel trailers shipped in 2003

○ It is estimated that 95% currently use the RVIA label and weigh their travel trailers which leaves 5% or 13,205 additional travel trailers per year to be weighed

○ 13,205 additional travel trailers/year × .16 hours/travel trailer = 2113 hours/year

Total estimated additional hour burden to weigh additional vehicles per year as a result of this rulemaking = 308 hours + 2113 hours = 2421 hours/year.

Estimated annual burden and cost to motor home and travel trailer manufacturers to produce/purchase and install the label.

○ Estimated cost to produce the label = $0.10 per label

○ Estimated labor hours to install label = .02 hours per label

○ Approximately 61,527 motor homes and 264,109 travel trailers were shipped in 2003 for a total of 325,636 units/year.

○ It is estimated that 95% of these vehicles are currently shipped with the RVIA label, which leaves 5% or 16,282 motor homes, and travel trailers/year that will require labels.

Total estimated additional hour burden per year to install the labels = 16,282 labels/year × .02 hours/label = 326 hours/year.

Total estimated additional cost of labels per year = 16,282 labels/year × $0.10/label = $1,628/year.

Estimated annual burden and cost to motor home and travel trailer dealers to produce/purchase and install the label identifying additional weight added.

○ Estimated cost to produce the label = $0.02 per label

○ Estimated labor hours to install label = .02 hours per label

○ Approximately 61,527 motor homes and 264,109 travel trailers were shipped in 2003 for a total of 325,636 units/year.

○ It is estimated that 50% of these vehicles will receive enough additional weight before first retail sale to require them to bear the additional label. The number of vehicles would be 50% of 325,636 vehicles, which equals 162,818 vehicles that will require the additional label.

Total estimated additional hour burden per year to install the additional labels = 162,818 labels/year × .02 hours/label = 3256 hours/year.

Total estimated additional cost of additional labels per year = 162,818 labels/year × $0.02/label = $3256/year.

Total annual hour burden and cost to the industry as a result of this proposal is 6003 hours and $4,884 per year.

NHTSA will consider comments by the public on this proposed collection of information in evaluating:

• Whether the proposed collection of information is necessary for the safe use of motor homes and travel trailers,

• The accuracy of the agency's estimate of the burden of the proposed collection of information,

• The quality, utility, and clarity of the information to be collected, and

• The opportunities to minimize the information collection burden.

H. National Technology Transfer and Advancement Act

Section 12(d) of the National Technology Transfer and Advancement Act of 1995 (NTTAA), Public Law 104-113, section 12(d) (15 U.S.C. 272) directs us to use voluntary consensus standards in our regulatory activities unless doing so would be inconsistent with applicable law or otherwise impractical. Voluntary consensus standards are technical standards (e.g., materials specifications, test methods, sampling procedures, and business practices) that are developed or adopted by voluntary consensus standards bodies, such as the Society of Automotive Engineers (SAE). The NTTAA directs us to provide Congress, through OMB, explanations when we decide not to use available and applicable voluntary consensus standards.

After conducting a search of available sources, we have decided to propose labels similar to that used by the Recreational Vehicle Industry Association, advising consumers of cargo carrying capacity for motor homes and travel trailers, and providing advisories.

I. Unfunded Mandates Reform Act

Section 202 of the Unfunded Mandates Reform Act of 1995 (UMRA) requires Federal agencies to prepare a written assessment of the costs, benefits and other effects of proposed or final rules that include a Federal mandate likely to result in the expenditure by State, local or tribal governments, in the aggregate, or by the private sector, of more than $100 million in any one year (adjusted for inflation with base year of 1995). Before promulgating a NHTSA rule for which a written statement is needed, section 205 of the UMRA generally requires us to identify and consider a reasonable number of regulatory alternatives and adopt the least costly, most cost-effective or least burdensome alternative that achieves the objectives of the rule. The provisions of section 205 do not apply when they are inconsistent with applicable law. Moreover, section 205 allows us to adopt an alternative other than the least costly, most cost-effective or least burdensome alternative if we publish with the final rule an explanation why that alternative was not adopted.

This proposal would not result in costs of $100 million or more to either State, local, or tribal governments, in the aggregate, or to the private sector. Thus, this proposal is not subject to the requirements of sections 202 and 205 of the UMRA.

J. Plain Language

Executive Order 12866 requires each agency to write all rules in plain language. Application of the principles of plain language includes consideration of the following questions:

—Have we organized the material to suit the public's needs?

—Are the requirements in the rule clearly stated?

—Does the rule contain technical language or jargon that is not clear?

—Would a different format (grouping and order of sections, use of headings, paragraphing) make the rule easier to understand?

—Would more (but shorter) sections be better?

—Could we improve clarity by adding tables, lists, or diagrams?

—What else could we do to make this rulemaking easier to understand?

If you have any responses to these questions, please include them in your comments on this NPRM.

K. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

Comments

How Do I Prepare and Submit Comments?

Your comments must be written and in English. To ensure that your comments are correctly filed in the Docket, please include the docket number of this document in your comments.

Your comments must not be more than 15 pages long. (49 CFR 553.21). We established this limit to encourage you to write your primary comments in a concise fashion. However, you may attach necessary additional documents to your comments. There is no limit on the length of the attachments.

Please submit two copies of your comments, including the attachments, to Docket Management at the address given above under ADDRESSES.

You may also submit your comments to the docket electronically by logging onto the Dockets Management System Web site at http://dms.dot.gov. Click on “Help & Information” or “Help/Info” to obtain instructions for filing the document electronically.

How Can I Be Sure That My Comments Were Received?

If you wish Docket Management to notify you upon its receipt of your comments, enclose a self-addressed, stamped postcard in the envelope containing your comments. Upon receiving your comments, Docket Management will return the postcard by mail.

How Do I Submit Confidential Business Information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR Part 512.)

Will the agency consider late comments?

We will consider all comments that Docket Management receives before the close of business on the comment closing date indicated above under DATES. To the extent possible, we will also consider comments that Docket Management receives after that date. If Docket Management receives a comment too late for us to consider it in developing a final rule (assuming that one is issued), we will consider that comment as an informal suggestion for future rulemaking action.

How can I read the comments submitted by other people?

You may read the comments received by Docket Management at the address given above under ADDRESSES. The hours of the Docket are indicated above in the same location.

You may also see the comments on the Internet. To read the comments on the Internet, take the following steps:

1. Go to the Docket Management System (DMS) Web page of the Department of Transportation (http://dms.dot.gov/).

2. On that page, click on “search.”

3. On the next page (http://dms.dot.gov/search/), type in the four-digit docket number shown at the beginning of this document. Example: If the docket number were “NHTSA-1998-1234,” you would type “1234.” After typing the docket number, click on “search.”

4. On the next page, which contains docket summary information for the docket you selected, click on the desired comments. You may download the comments. Although the comments are imaged documents, instead of word processing documents, the “pdf” versions of the documents are word searchable.

Please note that even after the comment closing date, we will continue to file relevant information in the Docket as it becomes available. Further, some people may submit late comments. Accordingly, we recommend that you periodically check the Docket for new material.

How does the Federal Privacy Act apply to my public comments?

Anyone is able to search the electronic form of all comments received into any of our dockets by the name of the individual submitting the comment (or signing the comment, if submitted on behalf of an association, business, labor union, etc.). You may review DOT's complete Privacy Act Statement in the Federal Register published on April 11, 2000 (Volume 65, Number 70; pages 19477-78) or you may visit http://dms.dot.gov.

List of Subjects in 49 CFR Part 571

Imports, Motor vehicle safety, Motor vehicles, Rubber and rubber products, Tires.

In consideration of the foregoing, it is proposed that the Federal Motor Vehicle Safety Standards (49 CFR Part 571), be amended as set forth below.

PART 571—FEDERAL MOTOR VEHICLE SAFETY STANDARDS

1. The authority citation for part 571 would continue to read as follows:

Authority: 49 U.S.C. 322, 30111, 30115, 30117, and 30166; delegation of authority at 49 CFR 1.50.

2. Section 571.3(b) of title 49, Code of Federal Regulations, would be amended by revising the definition of “motor home” and adding a definition of “travel trailer,” in the appropriate alphabetical order, to read as follows:

§ 571.3 Definitions.

* * * * *

(b) * * *

Motor Home means a multi-purpose vehicle with motive power that is designed to provide temporary residential accommodations, as evidenced by the presence of at least four of the following facilities: cooking; refrigeration or ice box; self-contained toilet; heating and/or air conditioning; a potable water supply system including a faucet and a sink; and a separate 110-125 volt electrical power supply and/or propane.

* * * * *

Travel Trailer means a trailer designed to be drawn by a vehicle with motive power by means of a bumper or frame hitch or a special hitch in a truck bed and is designed to provide temporary residential accommodations, as evidenced by the presence of at least four of the following facilities: cooking; refrigeration or ice box; self-contained toilet; heating and/or air conditioning; a potable water supply system including a faucet and a sink; and a separate 110-125 volt electrical power supply and/or propane.

* * * * *

3. Section 571.110 of title 49, Code of Federal Regulations, would be amended by revising S4.3(a) to read as follows:

§ 571.110 Tire selection and rims.

* * * * *

S4.3 * * *

(a) Vehicle capacity weight:

(1) If weight greater than 0.5 percent of the gross vehicle weight rating (GVWR) is added to a vehicle between vehicle certification and the first retail sale of the vehicle, the following label meeting the following criteria shall be affixed to the vehicle within 25 millimeters (one inch) of the tire placard such that it is visible when the tire placard is read.

“Caution—Cargo Carrying Capacity Reduced” Modifications to this vehicle have reduced the original cargo carrying capacity by___kilograms (___pounds)

(2) The label must disclose the total weight added to the nearest kilogram with conversion to the nearest pound in parentheses.

(3) The characters of the label must be presented in the English language, have a minimum print size of 2.4 millimeters (3/32 inches) high, and be black printed on a yellow background. The label must be moisture resistant and permanently affixed to the vehicle.

* * * * *

3. Section 571.120 of title 49, Code of Federal Regulations, would be amended by revising the section heading, by revising S1, by revising S2, by adding S10, and by adding Figures 1, 2, and 3 to read as follows:

§ 571.120 Tire selection and rims for motor vehicles with GVWRs of more than 4,536 kilograms (10,000 pounds).

S1. This standard specifies tire and rim selection requirements, rim marking requirements and motor home/travel trailer cargo carrying capacity information.

S2. The purpose of this standard is to provide safe operational performance by ensuring that vehicles to which it applies are equipped with tires of adequate size and load rating and with rims of appropriate size and type designation, and ensuring that consumers are informed of motor home/travel trailer cargo carrying capacity.

* * * * *

S10. Each motor home and travel trailer must meet the applicable requirements in S10.

S10.1 On motor homes, the sum of the GAWRs of all axles on the vehicle must not be less than the GVWR.

S10.2 On travel trailers, the sum of the GAWRs of all axles on the vehicle plus the tongue load rating must not be less than the GVWR.

S10.3 The tires on each motor home and travel trailer at first retail sale must be the same size as the tire size on the labeling required by S5.3.

S10.4 Each motor home and travel trailer final stage manufacturer must affix a cargo carrying capacity label to its vehicles that meets the following criteria:

S10.4.1 The label must be moisture resistant, and must be permanently affixed to the interior of the forward most exterior passenger door on the right side of the vehicle.

S10.4.2 The label must be presented in the English language with a minimum print size of 2.4 millimeters (3/32 inches high).

S10.4.3 The label for motor homes must contain the following information in accordance with Figure 1:

(a) The statement: “THE COMBINED WEIGHT OF OCCUPANTS AND CARGO SHOULD NEVER EXCEED XXX kilograms (XXX pounds)” in block letters with appropriate values included in place of “XXX”. The letters shall be black and the block in which the statement is located shall have a yellow background.

(b) The Vehicle Identification Number (VIN) of the motor home.

(c) Definitions of GVWR, UVW, OCW, and CCC as specified in Figure 1.

(d) The weights for the GVWR, UVW, fresh water, propane, OCW, CCC and maximum hitch load.

Weights must be provided to the nearest kilogram with conversion to the nearest pound in parentheses. Weights must be measured with scales that have a minimum accuracy of plus or minus one percent of the actual reading. Label weights must reflect the weights of the motor home as configured for delivery to the dealer.

(e) The following advisory statements must appear verbatim on the label:

(1) “Dealer installed equipment and towed vehicle tongue weight will reduce the CCC.”

(2) “Distribute cargo appropriately to prevent non-uniform side-to-side and/or forward/aft loading.”

S10.4.4 The label for travel trailers must contain the following information in accordance with Figure 2:

(a) The statement: “THE WEIGHT OF CARGO SHOULD NEVER EXCEED XXX kilograms (XXX pounds)” in block letters, with the travel trailer manufacturer providing the appropriate values in place of “XXX.” The letters shall be black and the block in which the statement is located shall have a yellow background.

(b) The VIN of the travel trailer.

(c) Definitions for GVWR, UVW, and CCC as specified in Figure 2.

(d) The tongue load rating.

(e) The weights for the GVWR, UVW, fresh water, propane, and CCC.

Weights must be provided to the nearest kilogram, with conversion to the nearest pound in parentheses. Weights must be accurate within a tolerance of plus or minus one percent. Label weights must reflect the weights of the travel trailer as configured for delivery to the dealer.

(f) The following advisory statements must appear verbatim on the label:

(1) “Dealer installed equipment will reduce the CCC.”

(2) “Distribute cargo appropriately to prevent non-uniform side-to-side and/or forward/aft loading.”

S10.4.5 Weight added to motor homes and travel trailers between vehicle certification and first retail sale of the vehicle.

(a) If weight greater than 0.5 percent of gross vehicle weight rating (GVWR) is added to a motor home or travel trailer between vehicle certification and first retail sale of the vehicle, a label as shown in Figure 3 and meeting the following criteria shall be affixed to the vehicle within 25 millimeters of the cargo carrying capacity label required by S10.4.3 or S10.4.4 such that the label specified in Figure 3 is visible when reading the cargo carrying capacity label.

(1) The label must disclose the total weight added to the nearest kilogram with conversion to the nearest pound in parentheses.

(2) The characters of the label must be presented in the English language, have a minimum print size of 2.4 millimeters (3/32 inches) high, and be black printed on a yellow background. The label must be moisture resistant and permanently affixed to the vehicle.

BILLING CODE 4910-59-P

* * * * *

Issued on: August 25, 2005.
Stephen R. Kratzke,
Associate Administrator for Rulemaking.

[FR Doc. 05-17245 Filed 8-30-05; 8:45 am]

BILLING CODE 4910-59-C